DEPARTMENT OF ENERGY

Federal Energy Regulatory Commission

[Project No. 10395-025]

City of Augusta, Kentucky, and its Electric Plant Board; Notice of Availability of Environmental Assessment

December 24, 2003.

In accordance with the National Environmental Policy Act of 1969 and the Federal Energy Regulatory Commission's (Commission) regulations, 18 CFR part 380 (Order No. 486, 52 FR 47897), the Office of Energy Projects' staff has prepared an Environmental Assessment (EA) for an application for amendment of license requesting Commission approval to permit the City of Augusta, Kentucky and its Electric Plant Board (licensee) to change the project design and transmission line route of the Meldahl Hydroelectric Project. The Meldahl Hydroelectric Project is located at the Corps' Captain Anthony Meldahl Locks and Dam on the Ohio River in Bracken County, Kentucky.

The EA contains the staff's analysis of the potential environmental impacts of the proposal and concludes that approval of the proposal would not constitute a major Federal action that would significantly affect the quality of the human environment.

A copy of the EA is available for review at the Commission in the Public Reference Room, or it may be viewed on the Commission's Web site at http://www.ferc.gov using the “eLibrary” link. Enter the docket number (prefaced by P-) and excluding the last three digits, in the docket number field to access the document. For assistance, call please contact FERC Online Support at FERCOnlineSupport@ferc.gov or toll free at (866) 208-3676 or for TTY (202) 502-8659.

For further information, contact Erich Gaedeke at (202) 502-8777.

Linda Mitry,
Acting Secretary.

[FR Doc. E3-00670 Filed 12-31-03; 8:45 am]

BILLING CODE 6717-01-P